BUREAU OF CONSUMER FINANCIAL PROTECTION

[Docket No: CFPB-2023-0049]

Privacy Act of 1974; System of Records

AGENCY: Bureau of Consumer Financial Protection.

ACTION: Rescindment of a system of records notice.

SUMMARY: In accordance with the Privacy Act of 1974, as amended, Consumer Financial Protection Bureau (CFPB) provides notice that it is rescinding CFPB.007 CFPB Directory Database from its inventory of record systems. The system of records provided the CFPB with a single, agency-wide repository of identifying and registration information concerning entities offering or providing, or materially assisting in the offering or provision of, consumer financial products or services. The CFPB is rescinding this system of records notice because this system is not currently maintained by CFPB, thereby making the system of records notice unnecessary.

DATES: Comments must be received no later than November 2, 2023. The modified system of records will be effective November 13, 2023 unless the comments received result in a contrary determination.

ADDRESSES: You may submit comments, identified by the title and docket number (see above Docket No. CFPB-2023-0049), by any of the following methods:

• Federal eRulemaking Portal: https://www.regulations.gov. Follow the instructions for submitting comments.

• Email: privacy@cfpb.gov. Include Docket No. CFPB-2023-0049 in the subject line of the email.

• Mail/Hand Delivery/Courier: Kathryn Fong, Chief Privacy Officer, Consumer Financial Protection Bureau, 1700 G Street NW, Washington, DC 20552. Because paper mail in the Washington, DC area and at CFPB is subject to delay, commenters are encouraged to submit comments electronically.

All submissions must include the agency name and docket number for this notice. In general, all comments received will be posted without change to https://www.regulations.gov. All comments, including attachments and other supporting materials, will become part of the public record and subject to public disclosure. You should submit only information that you wish to make available publicly. Sensitive personal information, such as account numbers or Social Security numbers, should not be included.

FOR FURTHER INFORMATION CONTACT: Kathryn Fong, Chief Privacy Officer, (202) 435-7058. If you require this document in an alternative electronic format, please contact CFPB_Accessibility@cfpb.gov.

SUPPLEMENTARY INFORMATION: The CFPB replaced the Directory Database with a central repository of entity business information that does not maintain individual-level information. Directory Database is therefore currently obsolete, no longer maintained by CFPB, and no longer meets the definition of a system of records under the Privacy Act. Accordingly, the CFPB reasonably believes that rescinding this System of Records Notice will have little effect on individuals' privacy. Rescindment of this System of Records Notice will also promote the overall streamlining and management of Privacy Act record systems for the CFPB.

SYSTEM NAME AND NUMBER:

CFPB.007 CFPB Directory Database.

HISTORY:

78 FR 54630; 83 FR 23435.

Kathryn Fong,
Senior Agency Official for Privacy, Consumer Financial Protection Bureau.

[FR Doc. 2023-21809 Filed 10-2-23; 8:45 am]

BILLING CODE 4810-AM-P